DEPARTMENT OF TRANSPORTATION

Pipeline and Hazardous Materials Safety Administration

Office of Hazardous Materials Safety; Notice of Delayed Special Permit Applications

AGENCY: Pipeline and Hazardous Materials Safety Administration (PHMSA), DOT.

ACTION: List of Applications Delayed more than 180 days

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party To Exemption Request

Issued in Washington, DC, on August 14, 2014.
Donald Burger,
Chief, General Approvals and Permits.

Modification to Special Permits
Application No. | Applicant | Reason for delay | Estimated date of completion
15854-M | Colmac, Coil Manufacturing, Inc., Colville, WA | 4 | 09-30-2014
9610-M | ATK Small Caliber Systems, Independence, MO | 4 | 09-30-2014
9847-M | FIBA Technologies, Inc., (FIBA), Millbury, MA | 4 | 09-30-2014
11826-M | Linde Gas North America, LLC, Murray Hill, NJ | 4 | 09-30-2014
15806-M | Precision Technik, Atlanta, GA | 4 | 09-30-2014
15642-M | Praxair Distribution, Inc., Danbury, CT | 4 | 09-30-2014
New Special Permit Applications
15767-N | Union Pacific Railroad Company, Omaha, NE | 1 | 09-30-2014
15977-N | NORA | 4 | 09-30-2014
15973-N | Cadman & Shurtleff, Inc., Raynham, MA | 4 | 09-30-2014
15971-N | National Aeronautics and Space Administration (NASA), Houston, TX | 4 | 09-30-2014
15955-N | Thompson Tank, Inc., Lakewood, CA | 3 | 09-30-2014
16022-N | Zhejiang Juhua Equipment Manufacturing Co., Ltd., Quzhou, Zhejiang | 4 | 09-30-2014
16013-N | Chem Technologies, Ltd., Middlefield, OH | 4 | 09-30-2014
15991-N | Dockweiler, Neustadt-Glewe, Germany | 4 | 09-30-2014
16011-N | Americase, Waxahache, TX | 4 | 08-31-2014
16001-N | VELTEK, Malvern, PA | 4 | 09-30-2014
16039-N | UTLX Manufacturing LLC, Alexandria, LA | 4 | 08-31-2014
16040-N | Multistar Ind., Inc., Othello, WA | 4 | 09-30-2014
16060-N | Daeryuk Can Manufacturing Co., Ltd., Youngin-Myeon, Asan-Si, Ch | 4 | 09-30-2014
16067-N | E.I. duPont de Nemours and Company, Wilmington, DE | 4 | 08-31-2014
16061-N | Battery Solutions, LLC, Howell, MI | 4 | 09-30-2014
Renewal Special Permits Applications
11602-R | East Tennessee Iron & Metal, Inc., Rogersville, TN | 4 | 08-31-2014
11860-R | GATX Corporation, Chicago, IL | 4 | 08-31-2014
15580-R | Wisconsin Central Ltd., Homewood, IL | 4 | 08-31-2014

[FR Doc. 2014-20072 Filed 8-25-14; 8:45 am]

BILLING CODE 4910-60-M